DEPARTMENT OF STATE

[Public Notice: 12847]

Notice of Charter Renewal for the President's Emergency Plan for AIDS Relief (PEPFAR) Scientific Advisory Board

SUMMARY: This notice announces the renewal of the charter for the President's Emergency Plan for AIDS Relief (PEPFAR) Scientific Advisory Board. The PEPFAR SAB is established under the general authority of the Secretary of State and the Department of State set forth in 22 U.S.C. 2656, and consistent with the Federal Advisory Committee Act, as amended (5 U.S.C. 1001 et seq).

FOR FURTHER INFORMATION CONTACT: For further information about the Board, please contact Dr. Emily Innis, Designated Federal Officer for the Board, Bureau of global health Security and Diplomacy, U.S. Department of State (telephone: 202-372-7867; email: InnisEA@state.gov).

(Authority: 5 U.S.C. 1001 et seq and 22 U.S.C. 2651a.)

Emily A. Innis,
Designated Federal Officer, President's Emergency Plan for AIDS Relief (PEPFAR) Scientific Advisory Board, Department of State.

[FR Doc. 2025-18919 Filed 9-29-25; 8:45 am]

BILLING CODE 4710-10-P